DEPARTMENT OF VETERANS AFFAIRS

Veterans and Community Oversight and Engagement Board, Notice of Meeting

The Department of Veterans Affairs (VA) gives notice under the Federal Advisory Committee Act, 5 U.S.C. App 2., that the Veterans and Community Oversight and Engagement Board will meet virtually on January 28, 2021. The meeting session will begin and end as follows:

Date: January 28, 2021

Time: 3:00 p.m. to 6:00 p.m. EST

The meetings are open to the public. Members of the public can attend the meeting via teleconference (800) 767-1750 access code 94323#.

The Board was established by the West Los Angeles Leasing Act of 2016 on September 29, 2016. The purpose of the Board is to provide advice and make recommendations to the Secretary of Veterans Affairs (SECVA) on: Identifying the goals of the community and Veteran partnership; improving services and outcomes for Veterans, members of the Armed Forces, and the families of such Veterans and members; and on the implementation of the Draft Master Plan approved by the Secretary on January 28, 2016, and on the creation and implementation of any successor master plans.

On January 28, the agenda will include opening remarks from the Committee Chair and the Executive Sponsor. The Advisory Committee Management Office will present, Federal Advisory Committee Act 101 training. There will be a general update from Veterans Administration Greater Los Angeles Healthcare System (VAGLAHS) on COVID-19 response, Draft Master Plan Timeline Update, preliminary breakdown for the housing planned IAW the Master Plan, and Strategies to overcome CERs Staffing shortage. The West Los Angeles Collective will provide a briefing on infrastructure commitment and financing for Bldg. 207, and finally a presentation from Brilliant Corners on Strategies to house homeless Veterans. The Board's subcommittees on Outreach and Community Engagement with Services and Outcomes, and Master Plan with Services and Outcomes will report on activities since the last meeting, followed by an out brief to the full Board on any draft recommendations considered for forwarding to the SECVA.

Individuals wishing to share information with the Committee should contact Mr. Chihung Szeto (Alternate Designated Federal Official) at VEOFACA@va.gov to submit a 1-2 page summary of their comments for inclusion in the official meeting record.

Any member of the public seeking additional information should contact Mr. Eugene W. Skinner Jr. at (202) 631-7645 or at Eugene.Skinner@va.gov.

Dated: December 29, 2020.
Jelessa M. Burney,
Federal Advisory Committee Management Officer.

[FR Doc. 2020-29051 Filed 12-31-20; 8:45 am]

BILLING CODE P